DEPARTMENT OF JUSTICE

Office of Justice Programs

[OJP (NIJ) Docket No. 1513]

Draft NIJ Duty Holster Retention Standard for Law Enforcement

AGENCY: National Institute of Justice, Department of Justice.

ACTION: Notice of Draft NIJ Duty Holster Retention Standard for Law Enforcement and Certification Program Requirements.

SUMMARY: In an effort to obtain comments from interested parties, the U.S. Department of Justice, Office of Justice Programs, National Institute of Justice will make available to the general public two draft documents: (1) A draft standard entitled, “NIJ Duty Holster Retention Standard for Law Enforcement” and (2) a draft companion document entitled, “NIJ Duty Holster Retention Certification Program Requirements.” The opportunity to provide comments on these two documents is open to industry technical representatives, law enforcement agencies and organizations, research, development and scientific communities, and all other stakeholders and interested parties. Those individuals wishing to obtain and provide comments on the draft documents under consideration are directed to the following Web site: http://www.justnet.org.

DATES: Comments must be received on or before June 11, 2010.

FOR FURTHER INFORMATION CONTACT: Vanessa Castellanos, by telephone at 202-514-5272 [Note: this is not a toll-free telephone number], or by e-mail at vanessa.castellanos@usdoj.gov.

Kristina Rose,
Acting Director, National Institute of Justice.

[FR Doc. 2010-9633 Filed 4-26-10; 8:45 am]

BILLING CODE 4410-18-P